DEPARTMENT OF THE INTERIOR

Fish and Wildlife Service

[FWS-R9-IA-2010-N141]

[96300-1671-0000-P5]

Issuance of Permits

AGENCY: Fish and Wildlife Service, Interior.

ACTION: Notice of issuance of permits.

SUMMARY: We, the U.S. Fish and Wildlife Service (Service), have issued the following permits to conduct certain activities with endangered species and marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION: Notice is hereby given that on the dates below, as authorized by the provisions of the Endangered Species Act of 1973, as amended (16 U.S.C. 1531 et seq.), and the Marine Mammal Protection Act of 1972, as amended (16 U.S.C. 1361 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species

Permit number | Applicant | Receipt of application Federal Register notice | Permit issuance date
00568A | Bryce Carlson/Emory University | 75 FR 22162; April 27, 2010 | June 24, 2010
02299A | John Turner | 75 FR 27814; May 18, 2010 | June 30, 2010
069429 and 069443 | Steve Martin's Working Wildlife | 75 FR 23279; May 3, 2010 | July 1, 2010
075249 | Sam Noble Oklahoma Museum of Natural History | 75 FR 14627; March 26, 2010 | May 16, 2010
07801A | Roger Jarvis | 75 FR 19656; April 15, 2010 | June 4, 2010
080731 and 716917 | George Carden Circus International, Inc. | 75 FR 2561; January 15, 2010 | July 1, 2010
070854, 079868, 079870, 079871, and 079872 | George Carden Circus International, Inc. | 75 FR 27814; May 18, 2010 | July 1, 2010
128999 and 12311A | George Carden Circus International, Inc. | 75 FR 28650; May 21, 2010 | July 1, 2010
084874 | University of New Mexico, Museum of Southwestern Biology | 74 FR 62586; November 30, 2009 | April 01, 2010
08939A | Los Angeles Zoo | 75 FR 23279; May 3, 2010 | June 17, 2010
09558A | Rodney Peterson | 75 FR 22162; April 27, 2010 | June 7, 2010
09584A | Robert Lange | 75 FR 22162; April 27, 2010 | June 7, 2010
11227A | James Cordock | 75 FR 27814; May 18, 2010 | June 16, 2010
11231A | Brooks Puckett | 75 FR 28650; May 21, 2010 | June 29, 2010
196074 | Carly H. Vynne, University of Washington | 74 FR 21817; May 11, 2009 | December 07, 2009
212266 | Florida Atlantic University/Div. of Research and Sponsored Program | 75 FR 14627; March 26, 2010 | May 16, 2010
215520 | University of California, Los Angeles/Center for Tropical Research | 74 FR 62586; November 30, 2009 | March 18, 2010
218825 | Pauline L. Kamath, University of California at Berkeley | 74 FR 58977; November 16, 2009 | March 18, 2010
228022 | Metro Richmond Zoo | 75 FR 427; January 5, 2010 | April 12, 2010
231585 | Wildlife Conservation Society | 75 FR 427; January 5, 2010 | April 22, 2010
231674 | Lemur Conservation Foundation | 75 FR 62586; November 30, 2009 | April 12, 2010
231677 | Terrance David Braden | 75 FR 9251; March 1, 2010 | March 31, 2010
237536 | Virginia Zoological Park | 75 FR 2561; January 15,2010 | February 19, 2010

Marine Mammals

Permit number | Applicant | Receipt of application Federal Register notice | Permit issuance date
837414 | SAAMS, Alaska SeaLife Center | 75 FR 4103; January 26, 2010 | June 29, 2010

Dated: July 9, 2010
Brenda Tapia,
Program Analyst, Branch of Permits, Division of Management Authority.

[FR Doc. 2010-17309 Filed 7-14- 10; 8:45 am]

BILLING CODE S